DEPARTMENT OF LABOR

Employment and Training Administration

[TA-W-57,749; TA-W-57,749A]

Slater Screen Print Corporation; Pawtucket, RI; Slater Dye Works, Inc.; Pawtucket, RI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 14, 2005 applicable to workers of Slater Screen Print Corporation, Pawtucket, Rhode Island and Slater Dye Works, Inc., Pawtucket, Rhode Island. The notice was published in the Federal Register on October 6, 2005 (70 FR 58477).

The Department voluntarily reviewed the certification for workers of the subject firm. The workers were engaged in the production of printed fabric; they are not separately identifiable by product line.

New findings show that there was a previous certification, TA-W-52,384, issued on September 2, 2003, for workers of Slater Screen Print Corporation, Pawtucket, Rhode Island and Slater Dye Works, Inc., Pawtucket, Rhode Island who were engaged in employment related to the production of printed fabric. That certification expired September 2, 2005. To avoid an overlap in worker group coverage, this certification is being amended to change the impact date for workers of the subject firm from August 15, 2004 to September 3, 2005.

The amended notice applicable to TA-W-57,749 and TA-W-57,749A are hereby issued as follows:

“All workers of Slater Screen Print Corporation, Pawtucket, Rhode Island (TA-W-57,749) and Slater Dye Works, Inc., Pawtucket, Rhode Island (TA-W-57,749A), who became totally or partially separated from employment on or after September 3, 2005, through September 14, 2007, are eligible to apply for adjustment assistance under Section 223 of the Trade Act of 1974, are also eligible to apply for alternative trade adjustment assistance under Section 246 of the Trade Act of 1974.”

Signed at Washington, DC, this 13th day of January 2006.
Richard Church,
Certifying Officer, Division of Trade Adjustment Assistance.

[FR Doc. E6-1135 Filed 1-27-06; 8:45 am]

BILLING CODE 4510-30-P